NUCLEAR REGULATORY COMMISSION

10 CFR Parts 19, 20, and 50

RIN 3150-AH40

Occupational Dose Records, Labeling Containers, and the Total Effective Dose Equivalent; Deferral of Effective Date

AGENCY: Nuclear Regulatory Commission.

ACTION: Final rule: deferral of effective date.

SUMMARY: The Nuclear Regulatory Commission published a final rule amending regulations that would become effective January 3, 2008. The final rule, published December 4, 2007 (72 FR 68043) related to the reporting of annual dose to workers, the definition of Total Effective Dose Equivalent (TEDE), the labeling of certain containers holding licensed material, and the determination of cumulative occupational radiation dose. The NRC is deferring the effective date of the final rule until Office of Budget and Management (OMB) review and clearance of the rule's information collections is completed. NRC anticipates the new effective date for this rule will be February 15, 2008. The NRC will publish a subsequent document to confirm this effective date.

DATES: Effective Date: The effective date of the final rule published December 4, 2007 (72 FR 68043) is deferred until February 15, 2008.

ADDRESSES: Publicly available documents related to this rulemaking may be viewed electronically on the public computers located at the NRC's Public Document Room (PDR), Room O1F21, One White Flint North, 11555 Rockville Pike, Rockville, Maryland. The PDR reproduction contractor will copy documents for a fee. Publicly available documents created or received at the NRC are available electronically at the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS, contact the NRC's PDR Reference staff at (800) 397-4209, (301) 415-4737, or by e-mail to pdr@nrc.gov.

FOR FURTHER INFORMATION CONTACT: Stewart Schneider, Office of Nuclear Reactor Regulation, U.S. Nuclear Regulatory Commission, Washington, DC 20555-0001; telephone (301) 415-4123; e-mail sxs4@nrc.gov.

SUPPLEMENTARY INFORMATION: The Nuclear Regulatory Commission published a final rule amending regulations that would become effective January 3, 2008. The final rule, published December 4, 2007 (72 FR 68043) related to the reporting of annual dose to workers, the definition of Total Effective Dose Equivalent (TEDE), the labeling of certain containers holding licensed material, and the determination of cumulative occupational radiation dose. This final rule will limit the routine reporting of annual doses to those workers whose annual dose exceeds a specific dose threshold or who request a report. The rule will also modify the labeling requirements for certain containers holding licensed material within posted areas in nuclear power facilities, and will amend the definition of TEDE to be consistent with current Commission policy. Finally, this rule will remove the requirement that licensees attempt to obtain cumulative exposure records for workers unless these individuals are being authorized to receive a planned special exposure. These revisions will reduce the administrative and information collection burdens on NRC and Agreement State licensees without affecting the level of protection for either the health and safety of workers and the public, or for the environment.

This final rule will amend information collection requirements contained in 10 CFR parts 19, 20, and 50, and NRC Form 4 that are subject to the Paperwork Reduction Act of 1995 (44 U.S.C. 3501 et seq.). These information collection requirements were sent for approval to the Office of Management and Budget on November 28, 2007; while the changes to 10 CFR parts 19, 20, and 50, and NRC Form 4 do not contain a new or amended information collection requirements, the NRC has not received final clearance for these amended requirements. Because the rule will reduce the burden for existing information collection requirements, the public burden for the information collections in 10 CFR part 19 and NRC Form 4 is expected to be decreased by 235 and 44 hours per licensee, respectively. This reduction includes the time required for reviewing instructions, searching existing data sources, gathering and maintaining the data needed and completing and reviewing the information collection. Existing requirements were approved by the Office of Management and Budget, approval number(s) 3150-0044, 3150-0014, 3150-0011, and 3150-0005.

In order to allow sufficient time for OMB to complete its review of the information collections requirements imposed in this rule, the NRC is deferring the effective date of the December 4, 2007, amendments to 10 CFR parts 19, 20, and 50 until February 15, 2008.

Dated at Rockville, Maryland, this 13th day of December 2007.
For the Nuclear Regulatory Commission.
Annette L. Vietti-Cook,
Secretary of the Commission.

[FR Doc. E7-24636 Filed 12-19-07; 8:45 am]

BILLING CODE 7590-01-P